ENVIRONMENTAL PROTECTION AGENCY

40 CFR Part 180

[EPA-HQ-OPP-2007-0555; FRL-8350-8]

Acetic acid, [(5-chloro-8-quinolinyl) oxy]-, 1-methylhexyl ester (Cloquintocet-mexyl); Pesticide Tolerance

AGENCY: Environmental Protection Agency (EPA).

ACTION: Final rule.

SUMMARY: EPA is amending 40 CFR 180.560 to add a reference to the active ingredient pyroxsulam to the tolerance for the inert ingredient cloquintocet-mexyl (acetic acid [(5-chloro-8-quinolinyl) oxy]-, 1-methylhexyl ester; CAS Reg. No. 99607-70-2) and its acid metabolite (5-chloro-8-quinolinoxyacetic acid). EPA is also revising existing tolerance levels for cloquintocet-mexyl in or on wheat, forage and wheat, hay, and is removing the specification of a 1:4 ratio inert ingredient safener to active ingredient from the tolerance expression. Dow AgroSciences, LLC and Syngenta Crop Protection requested the tolerance amendments for the inert ingredient safener cloquintocet-mexyl under the Federal Food, Drug, and Cosmetic Act (FFDCA).

DATES: This regulation is effective March 5, 2008. Objections and requests for hearings must be received on or before May 5, 2008, and must be filed in accordance with the instructions provided in 40 CFR part 178 (see also Unit I.C. of the SUPPLEMENTARY INFORMATION ).

ADDRESSES: EPA has established a docket for this action under docket identification (ID) number EPA-HQ-OPP-2007-0555. To access the electronic docket, go to http://www.regulations.gov, select “Advanced Search,” then “Docket Search.” Insert the docket ID number where indicated and select the “Submit” button. Follow the instructions on the regulations.gov website to view the docket index or access available documents. All documents in the docket are listed in the docket index available in regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: R. Tracy Ward, Registration Division (7505P), Office of Pesticide Programs, Environmental Protection Agency, 1200 Pennsylvania Ave., NW., Washington, DC 20460-0001; telephone number: (703) 308-9361; e-mail address: ward.tracyh@epa.gov.

SUPPLEMENTARY INFORMATION:

I. General Information

A. Does this Action Apply to Me?

You may be potentially affected by this action if you are an agricultural producer, food manufacturer, or pesticide manufacturer. Potentially affected entities may include, but are not limited to those engaged in the following activities:

• Crop production (NAICS code 111), e.g., agricultural workers; greenhouse, nursery, and floriculture workers; farmers.

• Animal production (NAICS code 112), e.g., cattle ranchers and farmers, dairy cattle farmers, livestock farmers.

• Food manufacturing (NAICS code 311), e.g., agricultural workers; farmers; greenhouse, nursery, and floriculture workers; ranchers; pesticide applicators.

• Pesticide manufacturing (NAICS code 32532), e.g., agricultural workers; commercial applicators; farmers; greenhouse, nursery, and floriculture workers; residential users.

This listing is not intended to be exhaustive, but rather to provide a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Electronic Copies of this Document?

In addition to accessing an electronic copy of this Federal Register document through the electronic docket at http://www.regulations.gov, you may access this Federal Register document electronically through the EPA Internet under the “Federal Register” listings at http://www.epa.gov/fedrgstr. You may also access a frequently updated electronic version of EPA's tolerance regulations at 40 CFR part 180 through the Government Printing Office's pilot e-CFR site at http://www.gpoaccess.gov/ecfr.

C. Can I File an Objection or Hearing Request?

Under section 408(g) of FFDCA, any person may file an objection to any aspect of this regulation and may also request a hearing on those objections. You must file your objection or request a hearing on this regulation in accordance with the instructions provided in 40 CFR part 178. To ensure proper receipt by EPA, you must identify docket ID number EPA-HQ-OPP-2007-0555 in the subject line on the first page of your submission. All requests must be in writing, and must be mailed or delivered to the Hearing Clerk as required by 40 CFR part 178 on or before May 5, 2008.

In addition to filing an objection or hearing request with the Hearing Clerk as described in 40 CFR part 178, please submit a copy of the filing that does not contain any CBI for inclusion in the public docket that is described in ADDRESSES. Information not marked confidential pursuant to 40 CFR part 2 may be disclosed publicly by EPA without prior notice. Submit this copy, identified by docket ID number EPA-HQ-OPP-2007-0555, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

II. Background and Statutory Findings

EPA has received several petitions requesting amendments to the existing tolerances for the inert ingredient (safener) cloquintocet-mexyl (acetic acid [(5-chloro-8-quinolinyl) oxy]-, 1-methylhexyl ester; CAS Reg. No. 99607-70-2). The most recent final rule that established tolerances for this safener was published in the Federal Register of December 16, 2005 (70 FR 74679) (FRL-7753-4). That final rule provides a description of the toxicity data and risk assessments for cloquintocet-mexyl, and the reader is referred to it for additional information. The new petitions received by the Agency are summarized below.

In the Federal Register of May 9, 2007 (72 FR 26375) (FRL-8121-5), the Agency issued a notice pursuant to section 408 of the FFDCA, 21 U.S.C. 346a announcing the filing of pesticide petition PP 7E7194 by Dow AgroScience, LLC, 9330 Zionsville Rd, Indianapolis, Indiana 46268-1053. The petition requested that 40 CFR 180.560 be amended by adding reference to the active ingredient pyroxsulam for use in pesticide formulations with the inert ingredient safener cloquintocet-mexyl (acetic acid [(5-chloro-8-quinolinyl) oxy]-, 1-methylhexyl ester; CAS Reg. No. 99607-70-2) and its acid metabolite (5-chloro-8-quinolinoxyacetic acid) in or on wheat, grain at 0.10 parts per million (ppm), wheat, forage at 0.1 ppm, wheat, hay at 0.10 ppm, and wheat, straw at 0.10 ppm. In support of the proposed use of cloquintocet-mexyl combined with pyroxsulam, Dow AgroSciences submitted four residue chemistry studies:

1. A magnitude of the residue study depicting the residues of cloquintocet-mexyl in wheat grain, forage, hay, and straw,

2. A storage stability study,

3. An analytical method study, and

4. An independent laboratory validation (ILV) of the analytical method.

Docket ID number EPA-HQ-OPP-2007-0335 was established for this petition. No comments were received for this notice. This docket has now been linked to the docket established for this final rule (EPA-HQ-OPP-2007-0555).

The Agency issued a notice in the Federal Register of August 22, 2007 (72 FR 47010) (FRL-8145-1) announcing the filing of a pesticide petition PP 7E7233 by Syngenta Crop Protection, Inc., P.O. Box 18300, Greensboro, NC 27419-8300. The petition requested that 40 CFR 180.560 be amended by increasing the existing tolerances for residues of cloquintocet-mexyl and its acid metabolite (5-chloro-8-quinlinoxyacetic acid) when used as an inert ingredient safener in or on the raw agricultural commodities wheat, forage at 0.20 ppm (from the existing tolerance of 0.10 ppm) and wheat, hay at 0.50 ppm (from the existing tolerance of 0.10 ppm). The docket for this notice is EPA-HQ-OPP-2007-0555. No comments were received for this notice.

Section 408(b)(2)(A)(i) of FFDCA allows EPA to establish a tolerance (the legal limit for a pesticide chemical residue in or on a food) only if EPA determines that the tolerance is “safe.” Section 408(b)(2)(A)(ii) of FFDCA defines “safe” to mean that “there is a reasonable certainty that no harm will result from aggregate exposure to the pesticide chemical residue, including all anticipated dietary exposures and all other exposures for which there is reliable information.” This includes exposure through drinking water and in residential settings, but does not include occupational exposure. Section 408(b)(2)(C) of FFDCA requires EPA to give special consideration to exposure of infants and children to the pesticide chemical residue in establishing a tolerance and to “ensure that there is a reasonable certainty that no harm will result to infants and children from aggregate exposure to the pesticide chemical residue.” These provisions were added to FFDCA by the Food Quality Protection Act (FQPA) of 1996.

III. Risk Characterization and Conclusion

Consistent with FFDCA section 408(b)(2)(D), and the factors specified in FFDCA section 408(b)(2)(D), EPA has reviewed the available scientific data and other relevant information in support of this action and considered its validity, completeness and reliability, and the relationship of this information to human risk. EPA has also considered available information concerning the variability of the sensitivities of major identifiable subgroups of consumers, including infants and children. The nature of the toxic effects caused by cloquintocet-mexyl are discussed in this unit. EPA has sufficient data to assess the hazards of and make a determination on aggregate exposure for the chemical.

The following provides a brief summary of the risk assessment and conclusions for the Agency's review of cloquintocet-mexyl. The Agency's full decision document and risk assessments for this action are available on EPA's Electronic Docket at http://www.regulations.gov/ under docket ID number EPA-HQ-OPP-2007-0555. For the full toxicity data and information on which this risk assessment is based, the reader is referred to a final rule establishing tolerances for cloquintocet-mexyl that published in the December 16, 2005, Federal Register (70 FR 74679).

A. Human Health

In the final rule published in the Federal Register of December 16, 2005 (70 FR 74679) that established tolerances for cloquintocet-mexyl, the Agency reviewed the available information on cloquintocet-mexyl submitted by the petitioners as well as additional information available to EPA. The toxicity database is sufficient for cloquintocet-mexyl and has not changed since that time. Therefore, only a brief summary is provided here. Cloquintocet-mexyl has a low order of acute oral, dermal and inhalation toxicity. It is slightly irritating to the eyes and non-irritating to the skin. Cloquintocet-mexyl is a skin sensitizer. The chemical is not genotoxic and is not a reproductive and developmental toxicant. There is no evidence of neurotoxicity in the available studies. Cloquintocet-mexyl is classified as “not likely to be a human carcinogen.” The main metabolite for cloquintocet-mexyl is 5-chloro-8-quin-linoxyacetic acid, and testing on the metabolite is part of the toxicology database for cloquintocet-mexyl. Based on the available information, the Agency concludes that there is no concern for increased susceptibility in offspring to cloquintocet-mexyl, and the additional tenfold safety factor for the protection of infants and children is also unnecessary. For additional information on the Human Health toxicity data for cloquintocet-mexyl and its metabolite, see the docket and the Federal Register of December 16, 2005 (70 FR 74679).

B. Exposure Assessment

In examining aggregate exposure, the FFDCA section 408 directs EPA to consider available information concerning exposures from the pesticide residue in food and all other non-occupational exposures, including drinking water from ground water or surface water and exposure through pesticide use in gardens, lawns, or buildings (residential and other indoor uses). In the 2005 rulemaking, EPA assessed human exposure to cloquintocet-mexyl from use on wheat and barley. EPA assumed that 100 percent of the wheat and barley crops were treated with cloquintocet-mexyl and that residues on all wheat and barley commodities were at the tolerance level. This assessment is sufficient for the current amendments to the cloquintocet-mexyl tolerance because (1) no new crops are being added to the tolerance; and (2) EPA has determined that higher tolerance levels being established for the animal feeds of wheat, hay, and forage will not result in finite residues in livestock commodities. For additional information on the exposure assessment for cloquintocet-mexyl, see the docket and the Federal Register of December 16, 2005 (70 FR 74679).

The first petition (PP 7E7194) requested that cloquintocet-mexyl be used with an additional active ingredient (pyroxsulam), and the second petition (PP 7E7233) requested increases in wheat tolerances. The Agency's exposure assessments documents are found in this docket. The following are summaries of the conclusions.

PP 7E7194: Adding Pyroxsulam. Dow AgroScience's petition (PP 7E7194) requested the cloquintocet-mexyl be allowed to be used in formulations of the active ingredient pyroxsulam, and that tolerances of 0.10 ppm be established on wheat grain, forage, hay, and straw. Dow AgroSciences submitted four residue chemistry studies:

1. A magnitude of the residue study depicting the residues of cloquintocet-mexyl in wheat grain, forage, hay, and straw,

2. A storage stability study,

3. An analytical method study, and

4. An independent laboratory validation (ILV) of the analytical method. Evaluation of the data was accomplished as part of a joint review by Australia, Canada, and the United States.

The results of the residue field trials did not exceed the currently established cloquintocet-mexyl tolerances for wheat commodities. All the observed residues were less than half of the established tolerances and were not significantly higher than the method Level of Quantification (LOQ). Therefore, the active ingredient pyroxsulam can be added to the current tolerance for cloquintocet-mexyl. The current wheat tolerances are adequate and do not need to be modified as a result of the addition of the new active ingredient.

PP 7E7233: Increasing wheat tolerances for cloquintocet-mexyl. Syngenta Crop Protection's petition (PP 7E7233) requested that existing tolerances for cloquintocet-mexyl and its metabolite be amended to increase wheat, forage from 0.10 to 0.20 ppm and wheat, hay from 0.10 to 0.50 ppm. The Agency is granting the requested increase in tolerances for cloquintocet-mexyl and its metabolite on wheat, forage at 0.20 ppm and wheat, hay at 0.50 ppm.

EPA has no objection to raising the tolerances for wheat, forage from 0.1 ppm to 0.20 ppm and wheat, hay from 0.1 to 0.50 ppm. EPA developed livestock secondary residue calculations assuming levels of 0.20 ppm for wheat, forage and 0.50 ppm for wheat, hay. Because of the low levels of total radioactive residues found in livestock commodities in the ruminant and poultry metabolism studies and the corresponding low radioactive residues calculated for the 1X feeding levels, ruminant and poultry feeding studies are not needed, tolerances on livestock commodities are not needed, and analytical methods for livestock commodities are not needed. The uses on wheat fall under 40 CFR 180.6(a)(3) since no secondary residues are expected to occur in livestock commodities.

The results of field residue trial show that when used with the active ingredient pyroxsulam, residues of cloquintocet-mexyl were less than half of the established tolerances and not significantly higher than the method LOQ. And no secondary residues are expected to occur in livestock commodities from the increase of cloquintocet-mexyl wheat, hay, and forage tolerances. Therefore, the previously conducted cloquintocet-mexyl aggregate exposure assessments can be used in evaluating the addition of this active ingredient and the increase to wheat, hay, and forage tolerances. The following summary of aggregate exposure risks of cloquintocet-mexyl from acute and chronic dietary exposures and drinking water exposures is taken from the “Aggregate Risks and Determination of Safety” section of the final rule for cloquintocet-mexyl (70 FR 74679) published December 16, 2005.

There are no residential uses for cloquintocet-mexyl at this time. Therefore, the acute aggregate risk assessment includes exposure estimates from food and drinking water only.

“The food and water exposure estimates for females 13-49 yrs old is <1% of the acute population adjusted dose (aPAD). The acute risk estimate for females 13-49 years, resulting from aggregate exposure to cloquintocet-mexyl in food and drinking water is below EPA's level of concern.”

The following summarizes the chronic aggregate exposure risks of cloquintocet-mexyl:

“The aggregate chronic risk assessment takes into account average exposure estimates from dietary consumption of cloquintocet-mexyl (food and drinking water) and residential uses. Since there are no residential uses for cloquintocet-mexyl (either established or pending) at this time, the aggregate chronic assessment included exposures from food and drinking water only. Since the dietary exposure assessment already includes the highest chronic exposure from the drinking water modeling data, no further calculations are necessary. The general U.S. population and all population subgroups have exposure and risk estimates which are below the Agency's level of concern (i.e., the percentages of the chronic population adjusted doses (cPADs) are all below 100%). The exposure to the U.S. population is <1% cPAD and the most highly exposed subgroup, children 3-5 yrs old, is 1% cPAD. Therefore, chronic risk estimates resulting from aggregate exposure to cloquintocet-mexyl in food and drinking water are below the Agency's level of concern from all population subgroups.”

There are no residential or non-pesticidal uses for cloquintocet-mexyl. Therefore, no further aggregate assessment is necessary. For additional information on the Exposure Assessment for cloquintocet-mexyl, see the docket and the Federal Register of December 16, 2005 (70 FR 74679).

C. Safety Factor for Infants and Children

Section 408 of the FFDCA provides that EPA shall apply an additional tenfold margin of safety for infants and children in the case of threshold effects to account for prenatal and postnatal toxicity and the completeness of the database on toxicity and exposure unless EPA determines that a different margin of safety will be safe for infants and children. Margins of safety are incorporated into EPA risk assessments either directly through use of a MOE analysis or through using uncertainty (safety) factors in calculating a dose level that poses no appreciable risk to humans. The toxicity database is sufficient for cloquintocet-mexyl and potential exposure is adequately characterized based on modeling. In terms of hazard, there are low concerns and no residual uncertainties regarding pre-natal and/or post-natal toxicity. Accordingly, EPA concludes that the additional tenfold safety factor for the protection of infants and children is unnecessary. For additional information on the Safety Factor determination for infants and children for cloquintocet-mexyl, see the docket and the Federal Register of December 16, 2005 (70 FR 74679).

D. Cumulative Exposure

Section 408(b)(2)(D)(v) of the FFDCA requires that, when considering whether to establish, modify, or revoke a tolerance, the Agency consider “available information” concerning the cumulative effects of a particular pesticide's residues and “other substances that have a common mechanism of toxicity.” Unlike other pesticides for which EPA has followed a cumulative risk approach based on a common mechanism of toxicity, EPA has not made a common mechanism of toxicity finding as to cloquintocet-mexyl and any other substances, and the chemical does not appear to produce a toxic metabolite produced by other substances. For the purposes of this tolerance action, therefore, EPA has not assumed that cloquintocet-mexyl has a common mechanism of toxicity with other substances. For information regarding EPA's efforts to determine which chemicals have a common mechanism of toxicity and to evaluate the cumulative effects of such chemicals, see EPA's website at http://www.epa.gov/pesticides/cumulative.

E. Other Considerations

1. Analytical Methods

Adequate enforcement methodology is available to enforce the tolerance expression. The method may be requested from: Chief, Analytical Chemistry Branch, Environmental Science Center, 701 Mapes Rd., Ft. Meade, MD 20755-5350; telephone number: (410) 305-2905; e-mail address: residuemethods@epa.gov. For the complete description of Analytical Methods for cloquintocet-mexyl, see the docket and the Federal Register of December 16, 2005 (70 FR 74679).

2. Storage Stability

The petitioner submitted the results of a storage stability study that was performed to support the field trials. Samples of wheat grain, wheat straw, wheat forage, spinach, tomatoes, potatoes, and soybeans were fortified with cloquintocet-mexyl and cloquintocet acid to levels of 0.01 and 0.10 ppm. After 9 months of storage at temperatures of ≤-20 C, percent recoveries of cloquintocet-mexyl ranged from 74-107% and percent recoveries of cloquintocet acid ranged from 72-101%. The storage stability data are adequate to support the storage durations used in the field trials.

3. International Tolerances

There are no Codex tolerances for cloquintocet-mexyl. Australia has established maximum residue limits (MRLs) for cloquintocet-mexyl on wheat and barley at 0.1 ppm.

F. Determination of Safety and Conclusions

The Agency is granting the requested increase in tolerances for cloquintocet-mexyl and its metabolite on wheat, forage at 0.20 ppm and wheat, hay at 0.50 ppm. The Agency is also granting the requested addition of reference to the active ingredient pyroxsulam for use with the inert ingredient safener cloquintocet-mexyl on wheat. In addition, the Agency is removing the specification of a 1:4 ratio of cloquintocet-mexyl to active ingredient from the existing tolerance expression of 40 CFR 180.560. The specification is not necessary when numerical tolerances are already established.

Based on the information in this preamble, EPA concludes that there is a reasonable certainty of no harm to the general population, including infants and children, from aggregate exposure to residues of cloquintocet-mexyl and its metabolite. Accordingly, EPA finds that the tolerances described above for residues of cloquintocet-mexyl and its metabolite will be safe.

IV. Statutory and Executive Order Reviews

This final rule establishes a tolerance under section 408(d) of FFDCA in response to petitions submitted to the Agency. The Office of Management and Budget (OMB) has exempted these types of actions from review under Executive Order 12866, entitled Regulatory Planning and Review (58 FR 51735, October 4, 1993). Because this rule has been exempted from review under Executive Order 12866, this rule is not subject to Executive Order 13211, Actions Concerning Regulations That Significantly Affect Energy Supply, Distribution, or Use (66 FR 28355, May 22, 2001) or Executive Order 13045, entitled Protection of Children from Environmental Health Risks and Safety Risks (62 FR 19885, April 23, 1997). This final rule does not contain any information collections subject to OMB approval under the Paperwork Reduction Act (PRA), 44 U.S.C. 3501 et seq., nor does it require any special considerations under Executive Order 12898, entitled Federal Actions to Address Environmental Justice in Minority Populations and Low-Income Populations (59 FR 7629, February 16, 1994).

Since tolerances and exemptions that are established on the basis of a petition under section 408(d) of FFDCA, such as the tolerance in this final rule, do not require the issuance of a proposed rule, the requirements of the Regulatory Flexibility Act (RFA) (5 U.S.C. 601 et seq.) do not apply.

This final rule directly regulates growers, food processors, food handlers, and food retailers, not States or tribes, nor does this action alter the relationships or distribution of power and responsibilities established by Congress in the preemption provisions of section 408(n)(4) of FFDCA. As such, the Agency has determined that this action will not have a substantial direct effect on States or tribal governments, on the relationship between the national government and the States or tribal governments, or on the distribution of power and responsibilities among the various levels of government or between the Federal Government and Indian tribes. Thus, the Agency has determined that Executive Order 13132, entitled Federalism (64 FR 43255, August 10, 1999) and Executive Order 13175, entitled Consultation and Coordination with Indian Tribal Governments (65 FR 67249, November 6, 2000) do not apply to this rule. In addition, this rule does not impose any enforceable duty or contain any unfunded mandate as described under Title II of the Unfunded Mandates Reform Act of 1995 (UMRA) (Public Law 104-4).

This action does not involve any technical standards that would require Agency consideration of voluntary consensus standards pursuant to section 12(d) of the National Technology Transfer and Advancement Act of 1995 (NTTAA), Public Law 104-113, section 12(d) (15 U.S.C. 272 note).

V. Congressional Review Act

The Congressional Review Act, 5 U.S.C. 801 et seq., generally provides that before a rule may take effect, the agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: February 20, 2008.
Lois Rossi,
Director, Registration Division, Office of Pesticide Programs.

Therefore, 40 CFR chapter I is amended as follows:

PART 180—[AMENDED]

1. The authority citation for part 180 continues to read as follows:

Authority: 21 U.S.C. 321(q), 346a and 371.

2. Section 180.560 is amended by revising paragraph (a) to read as follows:

§ 180.560 Cloquintocet-mexyl (acetic acid [(5-chloro-8-quinolinyl) oxy]-, 1-methylhexyl ester; CAS Reg. No. 99607-70-2); tolerances for residues.

(a) General. Tolerances are established for the combined residues of cloquintocet-mexyl (acetic acid [(5-chloro-8-quinolinyl) oxy]-, 1-methylhexyl ester; CAS Reg. No. 99607-70-2) and its acid metabolite (5-chloro-8-quinlinoxyacetic acid) when used as an inert ingredient (safener) in pesticide formulations containing the active ingredients pinoxaden (wheat or barley), clodinafop-propargyl (wheat only), or pyroxsulum (wheat only) in or on the following food commodities:

Commodity | Parts per million
Barley, grain | 0.1
Barley, hay | 0.1
Barley, straw | 0.1
Wheat, forage | 0.2
Wheat, grain | 0.1
Wheat, hay | 0.5
Wheat, straw | 0.1

* * * * *

[FR Doc. E8-4023 Filed 3-4-08; 8:45 am]

BILLING CODE 6560-50-S